DEPARTMENT OF TRANSPORTATION

National Highway Traffic Safety Administration

[Docket No. NHTSA-2023-0019]

Agency Information Collection Activities; Notice and Request for Comment; State Data Transfer for Vehicle Crash Information

AGENCY: National Highway Traffic Safety Administration (NHTSA), Department of Transportation (DOT).

ACTION: Notice and request for comments on a request for modification of a currently approved information collection.

SUMMARY: The National Highway Traffic Safety Administration (NHTSA) invites public comments about our intention to request approval from the Office of Management and Budget (OMB) for a modification of a currently approved information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on State Data Transfer for Vehicle Crash Information collection.

DATES: Comments must be submitted on or before July 3, 2023.

ADDRESSES: You may submit comments identified by the Docket No. NHTSA-2021-0039 through any of the following methods:

• Electronic Submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Liza Lemaster-Sandbank, Office of State Data Reporting System Division, (NSA-0130), (202) 366-4257, National Highway Traffic Safety Administration, W53-306, U.S. Department of Transportation, 1200 New Jersey Avenue SE, Washington, DC 20590.

SUPPLEMENTARY INFORMATION: Under the Paperwork Reduction Act of 1995 (44 U.S.C. 3501 et seq.,), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the following proposed collection of information for which the agency is seeking approval from OMB.

Title: State Data Transfer (SDT) for Vehicle Crash Information.

OMB Control Number: 2127-0753.

Form Number(s): None.

Type of Request: Modification a currently approved information collection.

Type of Review Requested: Regular.

Requested Expiration Date of Approval: 3 years from date of approval.

Summary of the Collection of Information: The State Data Transfer (SDT) program is a voluntary collection of motor vehicle crash data. State agencies collect this information about motor vehicle crashes on Police Accident Reports (PARs) ¹ for their own needs. In general, a PAR includes information about the vehicles and individuals involved in a crash, injuries or fatalities resulting from a crash, roadway information, environmental information, information to reconstruct the crash scenes, etc. The SDT is a process through which participating States transfer their PAR data to NHTSA. SDT has two components that NHTSA's National Center for Statistics and Analysis (NCSA) calls protocols:

¹ Police Accident Reports (PARs) are also known as Police Crash Reports (PCRs) in some jurisdictions.

1. The State Data System (SDS) protocol obtains PAR crash data from States that submit data on an annual basis to NCSA. The data is submitted via electronic media, such as encrypted CD-ROM/DVD, or through secured mail or a secure file transfer protocol (SFTP). Files submitted through the SDS protocol are referred to as “annual crash files.”

2. The Electronic Data Transfer (EDT) protocol obtains PAR crash data, crash reports, and crash images from participating State crash systems through an electronic data transfer. Generally, this transfer occurs on a nightly basis following State data quality control checks and acceptance from each State's centralized database. The information is transmitted using Extensible Markup Language (XML) or JavaScript Object Notation (JSON) files through a web service using Hypertext Transfer Protocol Secure (HTTPS) protocol between a State's crash data system and NHTSA. NHTSA started using this EDT protocol in 2015. The data NHTSA receives is in the States' format, which is not standardized. NHTSA does not currently provide regular funding to the States to participate in EDT.

On November 15, 2021, President Biden signed the Infrastructure Investment and Jobs Act (IIJA or the Bipartisan Infrastructure Law), Public Law 117-58. Section 24108 (d) authorizes the Secretary of Transportation to establish the State Electronic Data Collection (SEDC) program to provide grants to States to establish, upgrade, and standardize their centralized statewide crash data repositories to enable electronic data collection, intrastate data sharing, and electronic data transfer to NHTSA. The objective is to increase the accuracy, timeliness, and accessibility of the data, including data related to fatalities involving vulnerable road users. Through SEDC, NHTSA will award grants to States to modernize or establish a centralized statewide crash data repository to enable full electronic data transfer to NHTSA, increase their alignment to the Model Minimum Uniform Crash Criteria (MMUCC) Sixth Edition data, and transmit the data in a standardized format to NHTSA. This information collection request is to modify NHTSA's existing information collection for SDT to account for changes resulting from the new grant program. The new grant program will not only increase the number of States using the EDT protocol, but it will also request data standardization and increased alignment with the MMUCC. States awarded the SEDC grant will be referred to as SEDC States; States that continue to electronically transmit their crash data to NHTSA through the EDT protocol without SEDC grant funds will be referred to as non-SEDC States.

The SDT process allows States to submit all their PAR data to NHTSA. NCSA uses this data to develop a census of the participating State's crashes. The dataset helps NCSA identify existing and emerging highway safety trends and assess the effectiveness of motor vehicle safety standards and new and emerging technologies on vehicle and highway safety programs. NHTSA also uses the dataset to support NHTSA's Corporate Average Fuel Economy (CAFE) program. Specifically, NHTSA uses the data to analyze the effects vehicle mass has on fatalities in cost benefit analyses for CAFE rulemakings.

Description of the Need for the Information and Proposed Use of the Information: NHTSA utilizes the SDT data to identify existing and emerging highway safety trends, assess the effectiveness of motor vehicle safety standards, and study the impact of new and emerging technologies on vehicles and highway safety programs. For example, NHTSA combines data from the SDT with information about the type of advanced driver assistance systems (ADAS) on crash-involved vehicles to estimate the effectiveness of ADAS technologies such as lane keeping support, automatic emergency braking, and blind spot detection.

NHTSA also uses the SDT data to automatically pre-populate the motor vehicle crash data it collects for several other NHTSA data collection programs. The following are brief descriptions of these data collection programs:

• FARS (OMB Control No. 2127-0006) is a nationwide census of fatalities caused by motor vehicle traffic crashes. In addition to PAR data, FARS includes detailed information regarding the location of the crash, the vehicles, and the people involved. FARS cases can also include toxicology report data, medical records, medical examiner reports, etc.²

² Additional details about FARS and how the agency collects this information are available in the supporting statements for the ICR with OMB Control No. 2127-0006.

• CRSS (OMB Control No. 2127-0714) is a nationally representative sample of police-reported crashes involving all types of motor vehicles, pedestrians, and cyclists, ranging from property-damage-only crashes to those that result in fatalities. CRSS data elements are a subset of the data elements on each State's PAR.³

³ Additional details about CRSS and how the agency collects this information are available in the supporting statements for the ICR with OMB Control No. 2127-0714.

• Investigation-based Crash Data Studies (OMB Control Number 2127-0706) includes CISS, SCI and Special Studies. CISS is a nationally representative sample of minor, serious, and fatal crashes involving at least one passenger vehicle—cars, light trucks, sport utility vehicles, and vans—towed from the scene. CISS collects data at both the crash level through scene analysis and the vehicle level through vehicle damage assessment together with injury coding. Data collected through CISS expands upon the information that is collected in a PAR.⁴

⁴ Additional details about CISS and how the agency collects this information are available in the supporting statements for the ICR with OMB Control No. 2127-0706.

The SCI Program provides NHTSA with the most in-depth crash data collected by the agency. The data collected ranges from basic information contained in routine police and insurance crash reports, to comprehensive data from special reports produced by professional crash investigation teams. Hundreds of data elements relevant to the vehicle, occupants, injury mechanisms, roadway, and safety systems are collected for each of the over 100 crashes designated for study annually.

• The Non-Traffic Surveillance (NTS) is a data collection effort for collecting information about non-traffic crashes and non-crash incidents. The NTS data provide counts and details regarding fatalities and injuries that occur in non-traffic crashes and in non-crash incidents. The NTS non-traffic crash data are obtained through NHTSA's data collection efforts for the Crash Report Sampling System (CRSS), the Crash Investigation Sampling System (CISS), and the Fatality Analysis Reporting System (FARS). NTS also includes data outside of NHTSA's own data collections. NTS' non-crash injury data is based upon emergency department records from a special study conducted by the Consumer Product Safety Commission's National Electronic Injury Surveillance System (NEISS) All Injury Program. NTS non-crash fatality data is derived from death certificate information from the Centers for Disease Control's National Vital Statistics System.

• CIREN combines crash data collection with professional multidisciplinary analysis of medical and engineering evidence to determine injury causation in every crash investigation conducted. The mission of the CIREN is to improve the prevention, treatment, and rehabilitation of motor vehicle crash injuries to reduce deaths, disabilities, and human and economic costs.

Before EDT, the transfer of motor vehicle crash data from a State's crash data system to NHTSA's FARS, CRSS and CISS required individuals to manually enter all State vehicle crash data into each of the crash data systems operated by NHTSA. The SDT program's EDT protocol enabled NHTSA to automate the transfer of State motor vehicle crash data into NHTSA's data collection systems and automate some of the data coding processes in FARS, CRSS and CISS. Through the SEDC program, participating States will build and modernize their centralized statewide crash data repositories and increase their alignment to the MMUCC Sixth Edition; NHTSA will receive more standardized and timely data and increase the usability of the data.

NHTSA's SDT program will reduce the burden of manual data entry and result in more accurate and timely data to help save lives, prevent injuries, and reduce economic costs due to motor vehicle crashes.

In addition, the SDT data are made available to other DOT agencies, such as the Federal Highway Administration and the Federal Motor Carrier Safety Administration, to support their mission to save lives on our national roadways. The SDT data received through SEDC grant will be made available to public as required in BIL.

Affected Public: This voluntary information collection involves State agencies that collect crash data. Specifically, the collection involves State governments, the District of Columbia government, U.S. Territory governments and the Secretary of the Interior, acting on behalf of an Indian Tribe. For purposes of this collection, we refer to the respondents generically as “States.”

Estimated Number of Respondents: 43.

There are currently 39 States participating in the SDT: 31 States participating using the SDS protocol, and 20 States participating using the EDT protocol. There are 15 States providing data using both protocols.

NHTSA expects that in the next three (3) years, these thirty-nine (39) States will continue to submit their data using either SDS or EDT protocol. NHTSA also expects that, in the next three years, ten (10) out of the twenty (20) existing EDT States will apply and be awarded SEDC grants and start sending more MMUCC-aligned data to NHTSA; three (3) SDS States, that are not EDT States, will apply and be awarded SEDC grants and begin sending MMUCC-aligned data to NHTSA; and two (2) new States, neither SDS nor EDT participating States, will apply and be awarded SEDC grants and begin collecting and transmitting standardized data to NHTSA. Therefore, NHTSA estimates the total number of States participating in the SDT will increase by four (4), to a total of forty-three (43), which is the existing thirty-nine (39) SDT States plus the four (4) new SEDC States in the next three (3) years.

Frequency: The frequency of this information collection varies State-by-State, potentially from daily to annually, as agreed upon by NHTSA and the individual States. State participating in the SDS protocol typically send a file to NHTSA once a year with all the crashes occurring during a calendar year. States send these files when it has completed its quality control process. For the EDT States, the data is usually transferred every night with the crash cases that have completed the quality control process since the last nightly transfer.

Estimated Total Annual Burden Hours: 312,663 hours.

As mentioned above, this information collection request is being updated to incorporate the burden hour and cost estimates for the new SEDC program under the EDT protocol. Due to the different requirements for SDS States, EDT non-SEDC States and EDT SEDC States, the annual burden for these three types of data transmissions are described separately below.

SDS Protocol

SDS information is obtained annually from States and is submitted in a more traditional method via electronic media through secured mail or a Secure File Transfer Protocol (SFTP). NHTSA assumes a participating State already has a centralized statewide crash data repository. Currently, thirty-one (31) States are voluntarily submitting their annual crash database to NHTSA, with five (5) States sending electronic media and twenty-six (26) states uploading the database to an SFTP site. Since NHTSA accepts the States' centralized statewide crash data repository without changes, NHTSA estimates that it will require eight (8) hours for a State Database Administrator to save a copy of the State's annual crash database onto a SFTP site or electronic media. We estimate an additional four (4) hours will be required for an administrative assistant to package and send the electronic media to NHTSA. Therefore, the burden hours for thirty-one (31) SDS States to save a copy of the State's annual crash database onto a SFTP site or electronic media is 248 hours (8 hours × 31 States). An additional burden for the five (5) SDS States to package and send the electronic media to NHTSA is 20 hours (4 hours × 5 States).

To estimate the labor cost associated with submitting the SDS information, NHTSA looked at wage estimates for the type of personnel involved with copying, packaging and sending the data. NHTSA estimates the total labor costs associated with copying the database by looking at the average wage for Database and Network Administrators and Architects. The Bureau of Labor Statistics (BLS) estimates that the average hourly wage for Database and Network Administrators and Architects (Standard Occupational Classification #15-1240, May 2021) is $49.25 ⁵ The Bureau of Labor Statistics estimates that State and local government workers' wages represent 61.9% of total labor compensation costs.⁶ Therefore, NHTSA estimates the hourly labor costs for copying the database to be $79.56 ($49.25 ÷ 61.9%) for Database and Network Administrator and Architects. The cost associated with the eight (8) hours of Database and Network Administrator labor is estimated to be $636.48 ($79.56 × 8 hours) per respondent.

⁵ See May 2021 National Occupational Employment and Wage Estimates United States, available at https://www.bls.gov/oes/current/oes_nat.htm (accessed March 13, 2023).

⁶ See table 1. Employer Costs for Employee Compensation by ownership (Sept. 2022), available at https://www.bls.gov/news.release/ecec.t01.htm (accessed March 13, 2023).

For the 5 States sending electronic media, NHTSA estimates the total labor costs for packing and sending the database by looking at the average wage for Secretaries and Administrative Assistants. The BLS estimates that the average hourly wage for Secretaries and Administrative Assistants (Standard Occupational Classification #43-6014, May 2021) is $21.76.⁷ By using the same estimate that wages represent 61.9% of the total compensation cost of labor, NHTSA estimates the total labor hour for packing and sending the database on electronic media to be $35.15($21.76 ÷ 61.9%). Therefore, the cost associated with the four (4) hours to send the electronic media is estimated to be $140.60 ($35.15 × 4 hours) per respondent.

⁷ See May 2021 National Occupational Employment and Wage Estimates United States, available at https://www.bls.gov/oes/current/oes_nat.htm (accessed March 13, 2023).

Combining these copying, packing, and sending burden estimates for SDS, NHTSA estimates that the total burden hours associated with this collection will be 268 (248 + 20) hours and total labor cost associated with the collection will be $19,731 ($638.48 × 31 States) for copying, and $703 ($140.60 × 5 States) for packing and sending, for a total of $20,434 ($19,731 + $703) for the SDS protocol.

States Using the EDT Protocol

Due to the different requirements including data standardization and alignment to MMUCC for SEDC and non-SEDC State, the cost estimates for these two groups under EDT protocol will be different as described below.

Non-SEDC States Using EDT Protocol

The non-SEDC States using the EDT protocol burden hour estimate is based on the level of effort reported by the States that have fully implemented EDT. NHTSA estimates that in the next three years, there will not be any new States joining the twenty (20) States already participating in the SDT program using the EDT protocol. Any new State will participate in EDT by applying for the SEDC grant and meeting SEDC requirements. In addition, NHTSA estimates that over the next three years, starting in year two (10) existing EDT States will begin participating in the new SEDC grant program and will start sending data aligned to MMUCC. NHTSA estimates that in year one, year two and year three, the number of non-SEDC EDT states will be 20, 15 and 10, respectively. Therefore, NHTSA estimates that there will be, on average, fifteen (15) non-SEDC EDT protocol States in each of the next three years. Since these fifteen (15) non-SEDC States are already using the EDT protocol, the cost and burden estimates for these States only account for annual maintenance effort. The estimates assume a participating State already has a centralized statewide crash data repository. The hourly burden for maintenance on States associated with non-SEDC EDT is estimated at five (5) hours per year, based upon currently participating States' experiences. This time is generally used to troubleshoot any connection issues or refine mapping protocols for any data elements that have changed.

NHTSA estimates the cost for IT personnel burden hours using the Bureau of Labor Statistics' mean wage estimate for Software and Web Developers, Programmers, and Testers (Standard Occupational Classification #15-1250, May 2021) of $54.68.⁸ The Bureau of Labor Statistics estimates that for State and local government workers, wages represent 61.9% of total compensation.⁹ Therefore, the total hourly cost associated with the IT burden hours is estimated to be $88.34 ($54.68 ÷ 61.9%) per hour.

⁸ May 2021 National Occupational Employment and Wage Estimates United States, Occupational Employment Statistics, Bureau of Labor Statistics, U.S. Department of Labor, https://www.bls.gov/oes/current/oes_nat.htm#15-0000, last accessed March 13, 2023.

⁹ Employer Costs for Employee Compensation by ownership (Sept. 2022), available at https://www.bls.gov/news.release/ecec.t01.htm (accessed March 13, 2023).

Per the loaded labor rates for State IT staff outlined above, five (5) hours of work translates to an estimated total annual maintenance burden of $441.70 ($88.34 × 5 hours) per State respondent maintaining participation in the EDT program. NHTSA estimates that there will be, on average, 15 States participating in non-SEDC EDT program in each of the next three years. The total annual responses are 5,475 (15 EDT States × 365 nightly responses). Therefore, the annual maintenance cost for the States is a total of $6,626 ($441.70 × 15 States) per year. The number of total burden hours for the 15 States is 75 hours (5 × 15 States).

SEDC States Using EDT Protocol

NHTSA published a Request for Information (RFI) ¹⁰ from May 2, 2022, to July 15, 2022, to assist the agency with the development and implementation of a new discretionary grant program to increase the number of States, U.S. territories, and Indian tribes electronically transferring their motor vehicle crash data to the NHTSA. Sixteen (16) States and Territories responded to the RFI with cost information for updating their centralized statewide crash data repositories and aligning to previous versions of MMUCC. NHTSA used that information to inform NHTSA's burden estimates and estimates the burden as follows.

¹⁰ Please see detailed information at this website: https://www.regulations.gov/docket/NHTSA-2022-0030.

The cost and burden estimates for the EDT protocol are divided into two efforts: a one-time implementation effort, and an annual maintenance effort. To increase their alignment with the new MMUCC, the States will need to either develop a new electronic Police Accident Report (PAR) and build a centralized statewide crash data repository if they don't already have one or update the existing PAR and centralized statewide crash data repository to increase their alignment to the new MMUCC. In addition, States will need to electronically transfer their data in a standardized format to NHTSA. NHTSA predicts the States will need to take the following specific actions:

• Manually entering PAR data if there are legacy paper PARs to be input into the new and/or updated centralized statewide crash data repository.

• Developing a new PAR to increase alignment with the updated MMUCC.

• Adopting the new State PAR by law enforcement agencies.

• Setting up information technology infrastructure for the electronic centralized statewide crash data repository.

• Identifying and implementing the system changes to align with the updated MMUCC.

• Developing a user guide, data dictionary and training materials for the new and/or updated data collection system.

• Developing and implementing database and data warehouse for the data collection.

• Developing and implementing data transfer protocols for collecting data from law enforcement agencies to centralized statewide crash data repository.

• Developing and implementing edit and validation rules for quality assurance for the data collection.

• Developing and implementing data transfer protocols for sharing data among States and sending data to NHTSA.

• Integrating the reporting from other vendors if some law enforcement agencies within a state use other vendor's software.

• Creating data analytics and dashboard for data monitoring and reporting.

NHTSA estimates the labor categories in the rows of table 1 are required for the implementation of tasks above. Based on the information received from the RFI, NHTSA estimates the labor hours for implementation and maintenance for each labor category as in the column “Implementation Total Hours” and “Maintenance Total Hours” in table 1. Labor category “Data Entry and Information Processing Workers” is needed when the States transition from a manual/paper system to an electronic system. Once the transition is complete, this labor category is no longer necessary and therefore is not included in the maintenance burden estimates.

NHTSA uses the Bureau of Labor Statistics' mean hourly wage estimate for each Labor Category in the column labeled “'Labor Rate w/o Fringe and Benefit” ¹¹ in table 1. The Bureau of Labor Statistics estimates that for State and local government workers, wages represent 61.9% of total compensation.¹² Therefore, the total hourly rate with fringe and benefit associated with the burden hours is calculated as below as shown in column “Labor Rate with Fringe Benefit” in table 1.

¹¹ See May 2021 National Occupational Employment and Wage Estimates United States, available at https://www.bls.gov/oes/current/oes_nat.htm#00-0000.

¹² See table 1. Employer Costs for Employee Compensation by ownership (Sept. 2022), available at https://www.bls.gov/news.release/ecec.t01.htm (accessed Feb. 24, 2023).

Labor Rate with Fringe Benefit = Labor Rate w/o Fringe Benefit ÷ Fringe Benefit Rate

The total cost for implementation and maintenance in table 1 are calculated as follows:

Implementation Total Cost = Implementation Total Hours × Labor Rate with Fringe Benefit

Maintenance Total Cost = Maintenance Total Hours × Labor Rate with Fringe Benefit

Table 1—Burden Estimates for SECD EDT States Using EDT Protocol
Labor category | Labor series | Implementation total hours (hrs) | Maintenance total hours (hrs) | Implementation labor rate w/o fringe and benefit ($/hr) | Overhead rate (%) | Maintenance labor rate with fringe and benefit ($/hr) | Implementation total labor cost (per state) ($) | Maintenance total labor cost (per state) ($)
Program Manager | 11-3021 | 1,888 | 832 | $78.33 | 61.90 | 126.54 | 238,908 | 105,281
Computer System Analyst | 15-1211 | 5,080 | 160 | 49.14 | 61.90 | 79.39 | 403,301 | 12,702
Web and Digital Interface Designer | 15-1255 | 1,760 | 416 | 49.50 | 61.90 | 79.97 | 140,747 | 33,268
Software Developer | 15-1252 | 10,240 | 1,280 | 58.17 | 61.90 | 93.97 | 962,253 | 120,282
Web Developers | 15-1254 | 5,920 | 1,280 | 39.09 | 61.90 | 63.15 | 373,848 | 80,832
Software Quality Assurance Analysts and Testers | 15-1252 | 7,040 | 1,280 | 46.97 | 61.90 | 75.88 | 534,195 | 97,126
Database Architects | 15-1243 | 3,520 | 960 | 58.58 | 61.90 | 94.64 | 333,133 | 90,854
Information Security Analysts | 15-1212 | 1,384 | 80 | 54.46 | 61.90 | 87.98 | 121,764 | 7,038
Data Entry and Information Processing Workers | 43-9020 | 4,192 |  | 18.70 | 61.90 | 30.21 | 126,640 |
Total |  | 41,024 | 6,288 |  |  |  | 3,234,789 | 547,384

Thus, total labor cost for SEDC EDT implementation cost per State are estimated to be $3,234,789 with burden hours to be 41,024. The total annual maintenance burden cost per year per State is estimated to be $547,384 with burden hour as 6,288.

NHTSA anticipates that during the first year of the grant, States will be in the development and implementation phase, where data transmission is not expected. Beginning with year two (2), and into year three (3), it is estimated that approximately ten (10) States per year will start transmitting data to NHTSA using the EDT protocol. Therefore, the average of number of State to transmit data to NHTSA for the three (3) years is 7 ((10 + 10) ÷ 3 = 6.77, rounded to the nearest integer). In this case during year three (3), there will be ten (10) states in maintenance phase. These are the ten (10) States which start transmission data to NHTSA during year two (2). The average number of states in maintenance phase is 4 (10 ÷ 3 = 3.33, then round 3.33 up to the nearest integer which is 4).

As NHTSA estimated that there will be average 7 new SEDC EDT States each year, the total implementation cost per year will be $22,643,526 (7 × $3,234,789) with burden hours as 287,168 hours (7 × 41,024 hours); the average annual maintenance cost will be $2,189,536 (4 × $547,384) with burden hours as 25,152 hours (4 × 6,288 hours). The total SEDC EDT labor costs are $24,833,062 ($22,643,526 for implementation and $2,189,536 for annual maintenance). This estimate includes total labor costs to the State respondents, but States may choose to have contractors incur some or all of these labor cost. The total annual responses for SEDC EDT States are 4,015 (11 EDT States × 365 nightly responses).

Summary for SDT Burden Estimates

The total estimated burden for SDT is 312,663 hours (268 hours for SDS + 15 hours for non-SEDC EDT + (287,168 hours + 25,152 hours) for SEDC EDT) and total estimated labor cost is $24,860,121 ($20,434 for SDS + $6,626 for non-SEDC EDT + ($22,643,526 + $2,1289,536) for SEDC EDT).

A summary of the burden estimates for SDT is provided in table 2.

Table 2—Summary for Estimated SDT Burden
| Number of states | Burden hours | Labor cost ($)
SDS Copying | 31 | 248 | 19,731
SDS Packing and Sending | 5 | 20 | 703
Non-SEDC EDT Maintenance | 15 | 75 | 4,270
SEDC EDT Implementation | 7 | 287,168 | 22,643,526
SEDC EDT Maintenance | 4 | 25,152 | 2,189,536
Total |  | 312,663 | 24,860,121

Estimated Total Annual Burden Cost: $25,000,000.

The SEDC grant, in compliance with BIL, requires a twenty (20) percent match from participating State respondents. NHTSA estimates about half of the program cost for the SEDC grants will be labor costs. NHTSA estimates the total annual burden cost for the SEDC program (beyond the labor costs discussed in question 12) will be about $25,000,000 to respondents. Since the Grant respondents only have to provide at least 20 percent of the total cost, the respondents will have to fund about $5,000,000 annually.

NHTSA does not expect respondents to incur any additional costs for the SDS or non-SEDC States using EDT Protocol (beyond labor costs as discussed in question 12) as a result of this information collection.

Public Comments Invited: You are asked to comment on any aspects of this information collection, including (a) whether the proposed collection of information is necessary for the proper performance of the functions of the Department, including whether the information will have practical utility; (b) the accuracy of the Department's estimate of the burden of the proposed information collection; (c) whether the States will use contractor(s) to help implement the SEDC grant or manage the implementation in-house with the State's own IT department; (d) ways to enhance the quality, utility and clarity of the information to be collected; and (e) ways to minimize the burden of the collection of information on respondents, including the use of automated collection techniques or other forms of information technology.

Authority: The Paperwork Reduction Act of 1995; 44 U.S.C. chapter 35, as amended; 49 CFR 1.49; and DOT Order 1351.29.

Chou-Lin Chen,
Associate Administrator, National Center for Statistics and Analysis.

[FR Doc. 2023-09357 Filed 5-2-23; 8:45 am]

BILLING CODE 4910-59-P